NATIONAL FOUNDATION FOR THE ARTS AND THE HUMANITIES

Notice of Proposed Information Collection Requests: Let's Move Museums, Let's Move Gardens

AGENCY: Institute of Museum and Library Services, National Foundation for the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act (44 U.S.C. Chapter 35). This program helps to ensure that requested data can be provided in the desired format, reporting burden (time and financial resources) is minimized, collection instruments are clearly understood, and the impact of collection requirements on respondents can be properly assessed. By this notice, IMLS is soliciting comments concerning a survey to gather information to identify museums that are currently or have plans to provide interactive experiences (exhibitions); afterschool, summer and other targeted programs, and food service operations that help fight childhood obesity. The data collection will help to identify best practices and collect information about the capacity of museums to reach the public with important public health messages.

A copy of the proposed information collection request can be obtained by contacting the individual listed below in the ADDRESSES section of this notice.

DATES: Written comments must be submitted to the office listed in the ADDRESSES section below on or before January 15, 2012.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Mamie Bittner, Institute of Museum and Library Services, 1800 M Street NW., 9th Floor, Washington, DC 20036. Telephone: (202) 653-4630. Email: mbittner@imls.gov or by teletype (TTY/TDD) for persons with hearing difficulty at (202) 653-4614.

SUPPLEMENTARY INFORMATION:

I. Background

The Institute of Museum and Library Services is the primary source of federal support for the Nation's 123,000 libraries and 17,500 museums. The Institute's mission is to create strong libraries and museums that connect people to information and ideas. The Institute works at the national level and in coordination with state and local organizations to sustain heritage, culture, and knowledge; enhance learning and innovation; and support professional development. IMLS conducts policy research, analysis, and data collection to extend and improve the Nation's museum, library, and information services. The policy research, analysis, and data collection is used to: Identify national needs for, and trends in museum, library, and information services; measure and report on the impact and effectiveness of museum, library, and information services throughout the United States; identify best practices; and develop plans to improve museum, library, and information services of the United States and strengthen national, State, local, regional, and international communications and cooperative networks. (20 U.S.C. Chapter 72, 20 U.S.C. 9108).

II. Current Actions

The information collection will be used by IMLS and its Let's Move partners, the White House Office of Domestic Policy and museum service organizations to assess the level of participation of the Nation's museums in the Let's Move initiative.

The intent of the collection:

• Develop a list of museums and gardens that are interested in delivering public health messages so that we can provide them with information (products of IMLS-supported grants, examples of best practices, links to resources) to support their efforts.

• Incorporate museums and gardens into the Let's Move effort and enable them to share information about their activities that promote healthy food choices and physical activity

• The list will be used by project partners for follow on activities to help to get feedback on implementing Let's Move activities and programs.

• Participating museums will be contacted about IMLS grant opportunities, but participation in Let's Move Museums and Let's Move Gardens will not be a factor in awarding grants.

Agency: Institute of Museum and Library Services.

Title: Let's Move Museums, Let's Move Gardens.

OMB Number: 3137-0080.

Agency Number: 3137.

Frequency: Annual.

Affected Public: Museums, state, local, tribal government and not-for-profit institutions.

Number of Respondents: 2,000.

Estimated Time per Respondent: .17.

Total Annual Costs to Respondents: $6,069.

Total Annualized to Federal Government: $55,120.

FOR FURTHER INFORMATION CONTACT: Mamie Bittner, Institute of Museum and Library Services, 1800 M Street NW., 9th Floor, Washington, DC 20036. Telephone: (202) 653-4630. Email: mbittner@imls.gov or by teletype (TTY/TDD) for persons with hearing difficulty at (202) 653-4614.

Date: November 10, 2011.
Kim Miller,
Management Analyst.

[FR Doc. 2011-29586 Filed 11-15-11; 8:45 am]

BILLING CODE 7536-01-P